NUCLEAR REGULATORY COMMISSION

[Docket No. 70-143]

Nuclear Fuel Services; Notice of Intent To Prepare an Environmental Assessment

AGENCY: U.S. Nuclear Regulatory Commission.

ACTION: Notice of Intent to Prepare an Environmental Assessment for Amendment of Special Nuclear Material License SNM-124 for Nuclear Fuel Services, Inc., Erwin, Tennessee.

The U.S. Nuclear Regulatory Commission is considering the amendment of Special Nuclear Material License SNM-124 to authorize new activities at the Nuclear Fuel Services, Inc. (NFS), facility located in Erwin, TN, and will prepare an Environmental Assessment to determine whether to prepare an Environmental Impact Statement (EIS) or a Finding of No Significant Impact.

Identification of the Proposed Action

NFS plans to request three amendments to their NRC license to authorize activities associated with the preparation of blended low-enriched uranium (BLEU) from surplus highly-enriched uranium from the U.S. Department of Energy. These activities would be performed under a contract with Tennessee Valley Authority (TVA) to provide low-enriched uranium fuel to be used in TVA's Brown's Ferry Nuclear Plant in Alabama. The Department of Energy prepared an Environmental Impact Statement to address the disposition of surplus highly enriched uranium (Disposition of Surplus Highly Enriched Uranium Final Environmental Impact Statement, DOE/EIS-0240, June 1996 ). NRC determined that this EIS did not specifically address the local environmental impacts of the construction of new storage and processing facilities in Erwin, Tennessee, and operation of these facilities, and that additional environmental review is necessary to support NRC's licensing actions.

In an amendment application to be submitted in February 2002, NFS will request authorization to store low-enriched uranyl nitrate solution in a new tank storage facility on the NFS plant site. In an amendment application to be submitted in July 2002, NFS will request authorization to perform dissolution of highly-enriched uranium/aluminum alloy and uranium metal and downblending of the resulting solution into low-enriched uranyl nitrate solution. In an amendment application to be submitted in January 2003, NFS will request authorization to perform conversion of the low-enriched uranyl nitrate solution into uranium dioxide powder. NRC is preparing one Environmental Assessment that will address the environmental affects of all 3 future license amendments.

NFS submitted a licensing plan of action to the NRC in an attachment to a letter dated October 4, 2001, from B. Marie Moore, NFS, to the Director, Office of Nuclear Material Safety and Safeguards (NRC ADAMS Accession Number ML012850006). NRC acknowledged the licensing plan of action, with comment, in a letter dated December 31, 2001 (NRC ADAMS Accession Number ML020020117). NFS also submitted a Supplemental Environmental Report for Licensing Actions to Support the BLEU Project, dated November 9, 2001, (NRC ADAMS Accession Number ML013330459), and Additional Information to Support an Environmental Review for BLEU Project, dated January 15, 2002 (NRC ADAMS Accession Number ML020290471).

The Commission intends to prepare an Environmental Assessment related to the amendment of Special Nuclear Material License SNM-124. On the basis of the assessment, the Commission will either conclude that an Environmental Impact Statement is necessary or will conclude that environmental impacts associated with the proposed action would not be significant and do not warrant the preparation of an Environmental Impact Statement.

In accordance with 10 CFR 2.790 of the NRC's “Rules of Practice,” a copies of the relevant documents are available electronically for public inspection in the NRC Public Document Room or from the Publicly Available Records (PARS) component of NRC's document system (ADAMS). ADAMS is accessible from the NRC Web site at http://www.nrc.gov/NRC/ADAMS/index.html (the Public Electronic Reading Room).

The NRC contact for this licensing action is Mary T. Adams. Ms. Adams may be contacted at (301) 415-7249 or by e-mail at mta@nrc.gov for more information about the licensing action.

Dated at Rockville, Maryland, this 25 day of February 2002.
For the Nuclear Regulatory Commission.
Melvyn N. Leach,
Chief, Fuel Cycle Licensing Branch, Division of Fuel Cycle Safety and Safeguards, Office of Nuclear Material Safety and Safeguards.

[FR Doc. 02-5047 Filed 3-1-02; 8:45 am]

BILLING CODE 7590-01-P